DEPARTMENT OF THE TREASURY

Appointment of Members of the Legal Division to the Performance Review Board, Internal Revenue Service

Under the authority granted to me as Chief Counsel of the Internal Revenue Service by the General Counsel of the Department of the Treasury by General Counsel Directive 15, pursuant to the Civil Service Reform Act, I have appointed the following persons to the Legal Division Performance Review Board, Internal Revenue Service Panel:

1. Christian Weidman, Deputy General Counsel

2. Ruth Perez, IRS, Deputy Commissioner (Small Business/Self Employed)

3. Paul DeNard, IRS, Deputy Commissioner (Domestic), LBI

This publication is required by 5 U.S.C. 4314(c)(4).

Dated: October 9, 2012.
William J. Wilkins,
Chief Counsel, Internal Revenue Service.

[FR Doc. 2012-25617 Filed 10-17-12; 8:45 am]

BILLING CODE 4830-01-P